COMMODITY FUTURES TRADING COMMISSION

Sunshine Act Meetings

TIME AND DATE: 10 a.m., Thursday, July 11, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Supplemental Proposal on Exemption from Derivatives Clearing Organization Registration;

• Proposed Rule on Registration with Alternative Compliance for Non-U.S. Derivatives Clearing Organizations; and

• Proposed Rule on Customer Margin Rules relating to Security Futures.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: July 2, 2019.
Christopher Kirkpatrick,
Secretary of the Commission.

[FR Doc. 2019-14500 Filed 7-3-19; 11:15 am]

BILLING CODE 6351-01-P